DEPARTMENT OF AGRICULTURE

Agricultural Marketing Service

[TM-01-04]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: June 6, 2001, from 8 a.m. to 5:30 p.m. and June 7, 2001, from 8:30 a.m. to 5:30 p.m. (Central Time).

Place: Best Western Midway Hotel, 1835 Rose Street, La Crosse, Wisconsin 54603. Telephone: (608) 781-7000.

FOR FURTHER INFORMATION CONTACT: Richard Mathews, Acting Program Manager, National Organic Program, USDA-AMS-TMP-NOP, P.O. Box 96456, Room 2945-So., Ag Stop 0268, Washington, DC 20090-6456, Telephone: (202) 720-3252.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production and to advise the Secretary on other aspects of the implementation of OFPA. The NOSB met for the first time in Washington, DC, in March 1992 and currently has five committees working on various aspects of the organic program. The committees are: Accreditation, Crops, Livestock, Materials, and Processing.

In August of 1994, the NOSB provided its initial recommendations for the National Organic Program (NOP) to the Secretary of Agriculture. Since that time, the NOSB has submitted 30 addenda to its recommendations and reviewed more than 189 substances for inclusion on the National List of Allowed and Prohibited Substances. The last meeting of the NOSB was held on March 6-7, 2001, in Buena Park, CA.

The Department of Agriculture (USDA) published its final National Organic Program regulation in the Federal Register on December 21, 2000 (65 FR 80548). The rule became effective April 21, 2001.

Purpose and Agenda

The principal purposes of the meeting are to provide an opportunity for the NOSB to: receive various committee reports; receive updates from the Aquatic Task Force Working Group, the Task Force on Board Policy for Expert Presentations, and the Task Force on Outreach to Producers; receive an update from the USDA/NOP; review materials to determine if they should be included on the National List of Approved and Prohibited Substances; hear a presentation from the Environmental Protection Agency (EPA) on pesticide product labeling; and hear a presentation from the Foreign Agricultural Service, USDA on trade issues.

The Livestock Committee will present a recommendation to the NOSB on “access to pasture.” The Processing Committee will seek from the NOSB adoption of its recommendation for clarifying the materials for which a petition must be submitted requesting a review of a material for inclusion on the National List of substances allowed or prohibited for use in organic production and handling; discuss what “novel” processes will be allowed in organic handling; and discuss potential mislabeling issues that might arise in regard to products produced by uncertified processors. The Crops Committee will present a draft guidance document on compost tea and vermiculture; draft recommendations for greenhouse standards; draft recommendations for mushroom standards; and discuss transitional organic labeling and transitional organic operations. The Accreditation Committee will seek adoption of a plan for a Peer Review Panel; make recommendations about what issues guidance should be provided about on the NOP Website; present a new certifier outreach report; and discuss the committee's draft “Principles of Organic Production and Handling.” The Materials Committee will present its materials decision matrix for adoption by the Board, review materials for possible inclusion on the National List of Allowed or Prohibited Substances; seek adoption of a policy for updating the National List; and review committee communications with the Organic industry.

Materials to be reviewed at the meeting by the NOSB are as follows: for Livestock production: DL-Methionine (including, DL-Methionine Hydroxy Analog and Hydroxy Analog Calcium); for Crops: Monocalcium Phosphate; and for Processing: Potassium Hydroxide, Ammonium Hydroxide, Cyclohexlamine, Diethylaminoethanol, Morpholine, Octadecylamine.

For further information see http://www.ams.usda.gov/nop. Copies of the NOSB meeting agenda can be requested from Mrs. Toni Strother, USDA-AMS-TMP-NOP, P.O. Box 96456, Room 2510-So., Ag Stop 0268, Washington, DC 20090-6456; by telephone at (202) 720-3252; or by accessing the NOP website at http://www.ams.usda.gov/nop on or after May 4, 2001.

Type of Meeting

The meeting is open to the public. The NOSB has scheduled time for public input on Wednesday, June 6, 2001, from 8 a.m. until 10 a.m., and on Thursday, June 7, 2001, from 4:30 p.m. until 5:30 p.m. at the Best Western Midway Hotel 1835 Rose Street, La Crosse, WI 54603. Telephone: (608) 781-7000. Individuals and organizations wishing to make an oral presentation at the meeting should forward their request to Mrs. Toni Strother at USDA-AMS-TMP-NOP, P.O. Box 96456, Room 2510-So., Ag Stop 0268, Washington, DC 20090-6456, or by FAX to (202) 205-7808, or by e-mail to toni.strother2@usda.gov, by close of business May 31, 2001. While persons wishing to make a presentation may sign up at the door, advance registration will ensure that a person has the opportunity to speak during the allotted time period and will help the NOSB to better manage the meeting and to accomplish its agenda. Individuals or organizations will be given approximately 5 minutes to present their views. All persons making an oral presentation are requested to provide their comments in writing. Written submissions may contain information other than that presented at the oral presentation. Written comments may be submitted to the NOSB at the meeting or to Mrs. Strother after the meeting at the above address.

Dated: May 16, 2001.
Kenneth C. Clayton,
Acting Administrator, Agricultural Marketing Service.

[FR Doc. 01-12685 Filed 5-16-01; 11:35 am]

BILLING CODE 3410-02-P